Title 3—

The President

Proclamation 9776 of August 29, 2018

Adjusting Imports of Aluminum Into the United States

By the President of the United States of America

A Proclamation

1. On January 19, 2018, the Secretary of Commerce (Secretary) transmitted to me a report on his investigation into the effect of imports of aluminum articles on the national security of the United States under section 232 of the Trade Expansion Act of 1962, as amended (19 U.S.C. 1862). The Secretary found and advised me of his opinion that aluminum articles are being imported into the United States in such quantities and under such circumstances as to threaten to impair the national security of the United States. In light of this conclusion, the Secretary recommended action to adjust the imports of aluminum articles so that such imports will not threaten to impair the national security. The Secretary also recommended that I authorize him, in response to specific requests from affected domestic parties, to exclude from any adopted import restrictions those aluminum articles for which the Secretary determines there is a lack of sufficient domestic production capacity of comparable products, or to exclude aluminum articles from such restrictions for specific national security-based considerations.

2. In Proclamation 9704 of March 8, 2018 (Adjusting Imports of Aluminum Into the United States), I concurred in the Secretary's finding that aluminum articles, as defined in clause 1 of Proclamation 9704, are being imported into the United States in such quantities and under such circumstances as to threaten to impair the national security of the United States, and decided to adjust the imports of these aluminum articles by imposing a 10 percent ad valorem tariff on such articles imported from most countries. I further authorized the Secretary to provide relief from these additional duties for any aluminum article determined not to be produced in the United States in a sufficient and reasonably available amount or of a satisfactory quality and also to provide such relief based on specific national security considerations.

3. Consistent with the Secretary's recommendation that I authorize him to exclude from any adopted import restrictions those aluminum articles for which the Secretary determines there is a lack of sufficient domestic production of comparable products, or for specific national security-based considerations, I have determined to authorize the Secretary to provide relief from quantitative limitations on aluminum articles adopted pursuant to section 232 of the Trade Expansion Act of 1962, as amended, including those set forth in Proclamation 9758 of May 31, 2018 (Adjusting Imports of Aluminum Into the United States), on the same basis as the Secretary is currently authorized to provide relief from the duty established in clause 2 of Proclamation 9704.

4. In light of my determinations, I have considered whether it is necessary and appropriate in light of our national security interests to make any corresponding adjustments to the tariff or quotas imposed by previous proclamations. It is my judgment that it is necessary and appropriate, at this time, to maintain the current tariff and quota levels. As directed in Proclamation 9704, the Secretary shall continue to monitor imports of aluminum articles and inform me of any circumstances that, in his opinion, might indicate the need for further action under section 232 of the Trade Expansion Act of 1962, as amended.

5. The United States continues to hold discussions with countries on satisfactory alternative means to address the threatened impairment to our national security posed by aluminum articles imports. Should these discussions result in an agreement concerning such alternative means, I will take further action as appropriate.

6. Section 232 of the Trade Expansion Act of 1962, as amended, authorizes the President to adjust the imports of an article and its derivatives that are being imported into the United States in such quantities or under such circumstances as to threaten to impair the national security.

7. Section 604 of the Trade Act of 1974, as amended (19 U.S.C. 2483), authorizes the President to embody in the Harmonized Tariff Schedule of the United States (HTSUS) the substance of statutes affecting import treatment, and actions thereunder, including the removal, modification, continuance, or imposition of any rate of duty or other import restriction.

NOW, THEREFORE, I, DONALD J. TRUMP, President of the United States of America, by the authority vested in me by the Constitution and the laws of the United States of America, including section 232 of the Trade Expansion Act of 1962, as amended, section 301 of title 3, United States Code, and section 604 of the Trade Act of 1974, as amended, do hereby proclaim as follows:

(1) The Secretary, in consultation with the Secretary of State, the Secretary of the Treasury, the Secretary of Defense, the United States Trade Representative (USTR), the Assistant to the President for National Security Affairs, the Assistant to the President for Economic Policy, and such other senior Executive Branch officials as the Secretary deems appropriate, is hereby authorized to provide relief from the quantitative limitations applicable to aluminum articles described in subheadings 9903.85.05 and 9903.85.06 of subchapter III of chapter 99 of the HTSUS for any aluminum article determined not to be produced in the United States in a sufficient and reasonably available amount or of a satisfactory quality, and is also authorized to provide such relief based upon specific national security considerations. Such relief shall be provided for an aluminum article only after a request for relief is made by a directly affected party located in the United States. Such relief may be provided to directly affected parties on a party-by-party basis taking into account the regional availability of particular articles, the ability to transport articles within the United States, and any other factors as the Secretary deems appropriate. If the Secretary determines that relief should be granted to a requesting party for the importation of a particular aluminum article, the Secretary shall publicly post such determination and notify U.S. Customs and Border Protection (CBP) of the Department of Homeland Security concerning such article so that it will be excluded from the applicable quantitative limitation. Relief granted under this clause shall apply only to an article entered for consumption, or withdrawn from warehouse for consumption, on or after the date on which the request for relief is granted by the Secretary. Until such time as any applicable quantitative limitation for a particular article has been reached, CBP shall count any aluminum article for which relief is granted under this clause toward such quantitative limitation at the time when such aluminum article is entered for consumption or withdrawn from warehouse for consumption. Any aluminum article for which relief is granted under this clause shall not be subject to the additional rate of duty set forth in Proclamation 9704, as amended. Aluminum articles for which relief is granted under this clause shall be subject to the duty treatment provided in subheading 9903.85.11 of subchapter III of chapter 99 of the HTSUS, as established by the Annex to this proclamation.

(2) As soon as practicable, the Secretary shall issue procedures for the requests for exclusion described in clause 1 of this proclamation. The issuance of such procedures is exempt from Executive Order 13771 of January 30, 2017 (Reducing Regulation and Controlling Regulatory Costs). CBP shall implement exclusions granted pursuant to clause 1 of this proclamation as soon as practicable.

(3) Clause 3 of Proclamation 9704, as amended by Proclamation 9710, is further amended by striking the fourth and fifth sentences and inserting in lieu thereof the following two sentences: “If the Secretary determines that a particular aluminum article should be excluded, the Secretary shall publicly post such determination and notify U.S. Customs and Border Protection (CBP) of the Department of Homeland Security concerning such article so that it will be excluded from the duties described in clause 2 of this proclamation. For merchandise entered for consumption, or withdrawn from warehouse for consumption, on or after the date the duty established under this proclamation is effective and with respect to which liquidation is not final, such relief shall be retroactive to the date the request for relief was accepted by the Department of Commerce.”.

(4) Where the government of a country identified in the superior text to subheadings 9903.85.05 and 9903.85.06 of subchapter III of chapter 99 of the HTSUS notifies the United States that it has established a mechanism for the certification of exports to the United States of products covered by the quantitative limitations applicable to these subheadings, and where such mechanism meets the operational requirements for participation in an export certification system administered by the United States, CBP, in consultation with the Secretary, USTR, and other relevant executive departments and agencies, may require that importers of these products furnish relevant export certification information in order to qualify for the treatment set forth in subheadings 9903.85.05 and 9903.85.06. Where CBP adopts such a requirement, it shall publish in the Federal Register notice of the requirement and procedures for the submission of relevant export certification information. No article that is subject to the export certification requirement announced in such notice may be entered for consumption, or withdrawn from warehouse for consumption, on or after the effective date specified in such notice, except upon presentation of a valid and properly executed certification, in accordance with the procedures set forth in the notice.

(5) Subdivision (c) of U.S. note 19 to subchapter III of chapter 99 of the HTSUS is amended by inserting at the end the following new sentence: “Pursuant to subheading 9903.85.11 and superior text thereto, the Secretary may provide that any excluded product shall be granted entry into the customs territory of the United States when the applicable quantitative limitation has filled for the specified period for such good.”.

(6) Subdivision (d) of U.S. note 19 to subchapter III of chapter 99 of the HTSUS is amended by inserting after “9903.85.06” the phrase “and 9903.85.11”.

(7) The superior text for subheadings 9903.85.05 and 9903.85.06 of the HTSUS is amended by deleting “Aluminum” and inserting in lieu thereof: “Except as provided in subheading 9903.85.11, aluminum”.

(8) To implement clause 1 of this proclamation, subchapter III of chapter 99 of the HTSUS is modified as provided in the Annex to this proclamation.

(9) The modifications to the HTSUS made by clauses 5 through 8 of this proclamation and the Annex to this proclamation shall be effective with respect to goods entered for consumption, or withdrawn from warehouse for consumption, on or after 12:01 a.m. eastern daylight time on August 30, 2018, and shall continue in effect, unless such actions are expressly reduced, modified, or terminated.

(10) Clause 5 of Proclamation 9704 is amended by inserting “for consumption” after “goods entered” in the first sentence. Clause 5 of Proclamation 9710, as amended, is amended by striking “by this proclamation” from the end of the second sentence. Clause 5 of Proclamation 9739 is amended by striking “by clause 1 of this proclamation”.

(11) The Secretary, in consultation with CBP and other relevant executive departments and agencies, shall revise the HTSUS so that it conforms to the amendments directed by this proclamation. The Secretary shall publish any such modification to the HTSUS in the Federal Register.

(12) Any provision of previous proclamations and Executive Orders that is inconsistent with the actions taken in this proclamation is superseded to the extent of such inconsistency.

IN WITNESS WHEREOF, I have hereunto set my hand this twenty-ninth day of August, in the year of our Lord two thousand eighteen, and of the Independence of the United States of America the two hundred and forty-third.

Billing code 3295-F8-P

[FR Doc. 2018-19283

Filed 8-31-18; 11:15 am]

Billing code 7020-02-C